DEPARTMENT OF TRANSPORTATION

Federal Aviation Administration

Advisory Circular 25.24, Sustained Engine Imbalance

AGENCY: Federal Aviation Administration, DOT.

ACTION: Notice of issuance of advisory circular.

SUMMARY: This notice announces the issuance of Advisory Circular (AC) 25,24, Sustained Engine Imbalance. This AC sets forth an acceptable means, but not the only means, of demonstrating compliance with the provisions of title 14, Code of Federal Regulations (14 CFR), part 25 related to the aircraft design for sustained engine rotor imbalance for transport category airplanes. Like all ACs, it is not regulatory but is to provide guidance for applicants in demonstrating compliance with the objective safety standards set forth in the rule.

DATES: Advisory Circular 25.24 was issued by the Manager, Transport Airplane Directorate, Aircraft Certification Service, ANM-100, on August 2, 2000.

ADDRESSES: How to Obtain Copies. A copy may be obtained by writing to the U.S. Department of Transportation, Subsequent Distribution Office, DOT Warehouse, SVC-121.23, 3341Q 75th Ave., Landover, MD 20785, telephone 301-322-5377, or faxing your request to the warehouse at 301-386-5394. This AC can be found and downloaded from the Internet at http://www.faa.gov/avr/air/airhome.htm, at the link titled “Advisory Circulars.”

Issued in Renton, Washington, on October 4, 2000.
Dorenda D. Baker,
Acting Manager Transport Airplane Directorate, Aircraft Certification Service.

[FR Doc. 00-27448 Filed 10-27-00; 8:45 am]

BILLING CODE 4910-13-M